DEPARTMENT OF TRANSPORTATION

Federal Transit Administration

Early Scoping Notice for Charlotte Area Transit System (CATS) Proposed LYNX Silver Line Project in the Charlotte Metropolitan Area, North Carolina

AGENCY: Federal Transit Administration, Transportation (DOT).

ACTION: Early scoping notice.

SUMMARY: The Federal Transit Administration (FTA) and the Charlotte Area Transit System (CATS) issue this early scoping notice to advise other agencies and the public that they intend to explore, through the early scoping process of the Council on Environmental Quality (CEQ), proposed light rail transit in the West and Southeast Corridors, now known as the proposed LYNX Silver Line Project (SLP).

DATES: Written comments on the scope of the ongoing planning analysis, including previous studies developed by local planning and transportation agencies, purpose and need, alternatives to be considered, potential impacts to be assessed, and public outreach methods should be sent to CATS by October 14, 2020. See ADDRESSES below for the address to which written public comments may be sent. Instructions for participating in online and live virtual early scoping meetings are available at http://RideTransit.org/LYNXSilverLine, along with early scoping materials. CATS will conduct live virtual public meetings on the following dates:

Tuesday, September 15, 2020 at 5:30 p.m.; Focus Area 1: Wilkinson Boulevard (City of Belmont to I-485)

Wednesday, September 16, 2020 at 5:30 p.m.; Focus Area 2: Wilkinson Boulevard (I-485 to West Morehead Street)

Thursday, September 17, 2020 at 5:30 p.m.; Focus Area 3: Center City (West Morehead Street to Charlottetowne Avenue)

Tuesday, September 22, 2020 at 5:30 p.m.; Focus Area 4: Independence Boulevard (Charlottetowne Avenue to Idlewild Road)

Thursday, September 24, 2020 at 5:30 p.m.; Focus Area 5: Independence Boulevard (Idlewild Road to just south of I-485 at CPCC Levine)

Tuesday, September 29, 2020 at 5:30 p.m.; Focus Area 6: Union County Extension

Individuals who require special assistance to participate in early scoping should contact Ms. Ajonelle Poole, CATS Public and Community Relations Specialist, at 704-336-RIDE or LYNXSilverLine@publicinput.com at least seven days prior to the meetings. Ms. Poole can also be contacted for hard copies of the early scoping materials.

An interagency early scoping meeting will be conducted virtually on Monday, September 14, 2020 from 9:30 a.m. to 11:30 a.m. Representatives of Native American tribal governments and of Federal, State and local agencies that may have an interest in the project will be invited by phone, letter, or email.

In addition to the early scoping meetings described herein, CATS and FTA will conduct the scoping activities required by the subsequent NEPA process to identify the nature and scope of environmental issues to be addressed in the NEPA document. If the proposed action resulting from the planning analysis would have significant impacts requiring an environmental impact statement (EIS), FTA will publish a Notice of Intent (NOI) to prepare an EIS in the Federal Register, and that NOI will announce the dates and locations for EIS scoping meetings.

ADDRESSES: Written comments should be sent to Ms. Ajonelle Poole, CATS Public and Community Relations Specialist, 600 E. Fourth Street, Charlotte, NC 28202, phone: 704-336-RIDE, email: LYNXSilverLine@publicinput.com. The details of early scoping meetings are given above under DATES.

FOR FURTHER INFORMATION CONTACT: Ms. Julia Walker, Environmental Protection Specialist, Region 4, Federal Transit Administration, 230 Peachtree Street NW, Suite 1400, Atlanta, GA 30303, phone: 404-865-5600, email: julia.walker@dot.gov.

SUPPLEMENTARY INFORMATION: The early scoping process will be part of the ongoing planning analysis required by Title 49, United States Code (U.S.C.) Sec. 5309. Early scoping meetings have been planned and are announced below. The planning analysis completed to date has resulted in a locally preferred, planning-level light rail transit alternative which was adopted by the Metropolitan Transit Commission (MTC) and the metropolitan planning organizations (MPOs) for the Charlotte region. CATS recently initiated further study to refine the locally preferred alternative, which will then be the “proposed action” subject to environmental review under the National Environmental Policy Act (NEPA) and other environmental laws and regulations.

The SLP Corridor is approximately 26 miles in length. From the City of Belmont, it traverses through Center City Charlotte, and the Town of Matthews, with a potential two-mile extension into Union County. The transit improvements passing through these communities would serve residential neighborhoods and employment centers, key destinations like Charlotte Douglas International Airport, future Charlotte Gateway Station (with intercity rail and bus connections), Bank of America Stadium, BB&T Ballpark, Ovens Auditorium, Bojangles Coliseum, Novant Health Presbyterian and Matthews Medical Center, and Central Piedmont Community College, and will connect to the existing CATS LYNX Blue Line Light Rail and the CATS CityLYNX Gold Line Streetcar.

At the conclusion of the planning analysis, the MTC will adopt a refined locally preferred planning-level alternative, which will then be the “proposed action” subject to an appropriate environmental review under NEPA. If the proposed action would have significant impacts, FTA and CATS would initiate an EIS by conducting a scoping process to determine the appropriate scope of the EIS. In particular, the purpose and need for the project, the range of alternatives to be considered in the EIS, the environmental and community impacts to be evaluated, and the evaluation methodologies to be used would be subject to public and interagency review and comment, in accordance with 40 CFR parts 1500-1508 and 23 CFR part 771.

Previous Studies

Rapid transit has been discussed in Charlotte for decades, and in 1998, the City of Charlotte prepared the 2025 Integrated Transit/Land Use Plan. This was the original transit and land use plan that proposed using rapid transit to support focusing future growth in Charlotte's key centers and corridors. The West Corridor (along Wilkinson Boulevard) and the Southeast Corridor (along Independence Boulevard) were two of the identified corridors. Since 1998, there have been various planning efforts, and the plan has since been updated to the 2030 Transit System Plan.

In 2016, CATS completed the Southeast Corridor Transit Study, which considered various transit technologies and alignments. The MTC approved the recommendation of a light rail locally preferred alternative for the 13-mile Southeast Corridor from Center City Charlotte to the Mecklenburg and Union County border. The locally preferred alternative resulted from a detailed technical evaluation and outreach effort to the public and stakeholders.

More recently, CATS studied various technology and alignment alternatives for the West Corridor and Center City as part of the LYNX System Update, and in February 2019, the MTC adopted a light rail locally preferred alternative for the West Corridor, and combined the West and Southeast Corridor locally preferred alternatives as one continuous 26-mile light rail corridor from Belmont to Matthews known as the LYNX Silver Line. An extension into Union County will also be evaluated, as directed by the MTC.

Purpose and Need for Action

Previous planning analysis and discussions with stakeholders have helped to identify key transportation needs in the West and Southeast Corridors. These needs will be refined and detailed during planning and through environmental review, as analysis continues, and input is received from the public, stakeholders, and regulatory agencies. Initially, the key transportation concerns are continued population and employment growth in the Charlotte region, a congested roadway network with increased travel times, reduced reliability of the transportation system, and local goals to address equity concerns such as limited transportation options for transit-dependent populations, and inadequate connectivity between and access to transit, affordable housing, employment, and community services by environmental justice populations.

The preliminary purpose of the SLP is to provide high-capacity transit service in dedicated right-of-way along the US 74 (Wilkinson Boulevard), Cedar Street/Graham Street, 11th Street, US 74 (Independence Boulevard), and Monroe Road transportation corridors that:

• Provides a competitive and reliable alternative to automobiles;

• Improves local connectivity between and access to transit, housing, employment, and community services in the corridor;

• Promotes opportunities for development consistent with local vision, goals, plans, and policies;

• Provides a transit system that is financially sustainable to build, operate, and maintain; and,

• Preserves and protects the natural and built environment.

Alternatives

FTA and CATS are considering refinements to the light rail locally preferred alternative which came out of the Southeast Corridor Transit Study and the LYNX System Update, including shifts in alignment to address new opportunities and risks, and terminus options including an approximate two-mile extension into Union County.

In addition to what is described above, other reasonable alternatives identified through the early scoping process will be considered for potential inclusion in the planning analysis.

FTA Procedures

Early scoping is an optional element of the National Environmental Policy Act (NEPA) process that is particularly useful in situations where, as here, alignment variations are under consideration in a broadly-defined study area. While NEPA scoping normally begins with issuance of a Notice of Intent which describes the proposed action, it “may be initiated earlier, as long as there is appropriate public notice and enough information available on the proposal so that the public and relevant agencies can participate effectively.” See the Council on Environmental Quality's “Forty Most Asked Questions Concerning CEQ's National Environmental Policy Act Regulations,” 46 FR 18026, 18030 (1981). In this case, the available information is more than adequate to permit the public and relevant agencies to participate effectively in early scoping and the planning analysis. Early scoping can also serve to link transportation planning and NEPA. CATS intends to formalize the Federal Planning and Environmental Linkages (PEL) process with the initiation of early scoping, so that the results of planning studies may be considered during the formal NEPA environmental review process.

CATS may seek New Starts funding for the proposed project under 49 U.S.C. Sec. 5309 and will, therefore, be subject to New Starts regulation (49 CFR part 611). The New Starts regulation requires a planning analysis that leads to the selection of a locally preferred alternative by CATS and the inclusion of the locally preferred alternative in the long-range transportation plan adopted by MPOs. The planning analysis will examine alignments, station locations, costs, funding, ridership, economic development, land use, engineering feasibility, and environmental factors in the study area. The New Starts regulation also requires the submission of certain project-justification information in support of a request to initiate the engineering phase.

Authority: 49 CFR 622.101, 23 CFR 771.111, and 40 CFR 1501.7.

Yvette Taylor,
Regional Administrator.

[FR Doc. 2020-19069 Filed 8-28-20; 8:45 am]

BILLING CODE 4910-57-P